SOCIAL SECURITY ADMINISTRATION

[Docket No: SSA-2016-0041]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2016-0041].

I. The information collection below is pending at SSA. SSA will submit it to OMB within 60 days from the date of this notice. To be sure we consider your comments, we must receive them no later than October 28, 2016. Individuals can obtain copies of the collection instrument by writing to the above email address.

Methods for Conducting Personal Conferences When Waiver of Recovery of a Title II or Title XVI Overpayment Cannot Be Approved—20 CFR 404.506(e)(3), 404.506(f)(8), 416.557(c)(3), and 416.557(d)(8)—0960-0769. SSA conducts personal conferences when we cannot approve a waiver of recovery of a Title II or Title XVI overpayment. The Social Security Act (Act) and our regulatory citations require SSA to give overpaid Social Security beneficiaries and Supplemental Security Income (SSI) recipients the right to request a waiver of recovery and automatically schedule a personal conference if we cannot approve their request for waiver of overpayment. We conduct these conferences face-to-face, via telephone, or through video teleconferences. Social Security beneficiaries and SSI recipients or their representatives may provide documents to demonstrate they are without fault in causing the overpayment and do not have the ability to repay the debt. They may submit these documents by completing Form SSA-632, Request for Waive of Overpayment Recovery (OMB No. 0960-0037); Form SSA-795, Statement of Claimant or Other Person (OMB No. 0960-0045); or through a personal statement submitted by mail, telephone, personal contact, or other suitable method, such as fax or email. This information collection satisfies the requirements for request for waiver of recovery of an overpayment, and allows individuals to pursue further levels of administrative appeal via personal conference. Respondents are Social Security beneficiaries and SSI recipients or their representatives seeking reconsideration of an SSA waiver decision.

Type of Request: Revision of an OMB-approved information collection.

Modality of completion | Number of respondents | Frequency of response | Average burden per response (minutes) | Estimated total annual burden (hours)
Title II, Personal Conference, 404.506(e)(3) and 404-506(f)(8): Submittal of documents, additional mitigating financial information, and verifications for consideration at personal conferences | 19,663 | 1 | 30 | 9,832
Title XVI, Personal Conference, 416.557(c)(3) and 416-557(d)(8): Submittal of documents, additional mitigating financial information, and verifications at personal conferences | 56,464 | 1 | 30 | 28,232
Totals | 76,127 |  |  | 38,064

II. SSA submitted the information collections below to OMB for clearance. Your comments regarding the information collections would be most useful if OMB and SSA receive them 30 days from the date of this publication. To be sure we consider your comments, we must receive them no later than September 28, 2016. Individuals can obtain copies of the OMB clearance packages by writing to OR.Reports.Clearance@ssa.gov.

1. Request for Earnings and Benefit Estimate Statement—20 CFR 404.810—0960-0466. Section 205(c)(2)(A) of the Act requires the Commissioner of SSA to establish and maintain records of wages paid to, and amounts of self-employment income derived by, each individual as well as the periods in which such wages were paid and such income derived. An individual may complete and mail Form SSA-7004 to SSA's Data Operations Center in Wilkes-Barre, PA, to obtain a Statement of Earnings or Quarters of Coverage. SSA uses the information Form SSA-7004 collects to identify respondent's Social Security earnings records, extract posted earnings information, calculate potential benefit estimates, produce the resulting Social Security statements, and mail them to the requesters. The respondents are Social Security number holders requesting information about their Social Security earnings records and estimates of their potential benefits.

Type of Request: Revision of an OMB-approved information collection.

Modality of completion | Number of respondents | Frequency of response | Average burden per response (minutes) | Estimated total annual burden (hours)
SSA-7004 | 40,090 | 1 | 5 | 3,341

2. National Beneficiary Survey—0960-0800. SSA is continuing the National Beneficiary Survey (NBS), a survey which gathers data from SSI recipients and Social Security Disability Insurance (SSDI) beneficiaries about their characteristics; well-being; and other factors that promote or hinder employment. In particular, the survey seeks to uncover important information about the factors promoting beneficiary self-sufficiency and, conversely, factors impeding beneficiary efforts to maintain employment. We use this data to improve the administration and effectiveness of the SSDI and SSI programs. These results are valuable as SSA and other policymakers continue efforts to improve programs and services that help SSDI beneficiaries and SSI recipients become more self-sufficient.

Background

SSDI and SSI programs provide a crucial and necessary safety net for working-age people with disabilities. By improving employment outcomes for SSDI beneficiaries and SSI recipients, SSA supports the effort to reduce the reliance of people with disabilities on these programs. SSA conducted the prior NBS in 2004, 2005, 2006, and 2010, and it was an important first step in understanding the work interest and experiences of SSI recipients and SSDI beneficiaries, and in gaining information about their impairments; health; living arrangements; family structure; pre-disability occupation; and use of non-SSA programs (e.g., the Supplemental Nutrition Assistance Program). The prior NBS data is available to researchers and the public.

The National Beneficiary Survey (NBS)

The primary purpose of the new NBS-General Waves is to assess beneficiary well-being and interest in work; learn about beneficiary work experiences (successful and unsuccessful); and identify factors that promote or restrict long-term work success. Information collected in the survey includes factors such as health; living arrangements; family structure; current occupation; use of non-SSA programs; knowledge of SSDI and SSI work incentive programs; obstacles to work; and beneficiary interest and motivation to return to work.

We conducted the first wave of the NBS-General Waves in 2015. We will further conduct subsequent rounds in 2017 (round 2) and 2019 (round 3). The information we will collect is not available from SSA administrative data or other sources. In the NBS-General Waves, the sample design is similar to what we used for the prior NBS collections. Enhancement of the prior questionnaire includes additional questions on the factors that promote or hinder employment success. In 2015, we conducted semi-structured qualitative interviews to provide SSA an in-depth understanding of factors that aid or inhibit individuals in their efforts to obtain and retain employment and advance in the workplace. We use the qualitative data to add context and understanding when interpreting survey results, and to inform the sample and survey design of rounds 2 and 3.

Respondent participation in the NBS is voluntary and the decision to participate or not has no impact on current or future receipt of payments or benefits. Respondents are current SSDI beneficiaries and SSI recipients.

Type of Request: Revision of an OMB-approved information collection.

Modality of completion | Number of respondents | Frequency of response | Average burden per response (minutes) | Estimated total annual burden (hours)
2017
Cross-Sectional Samples
Representative Beneficiary Sample | 4,000 | 1 | 50 | 3,333
Successful Workers | 4,500 | 1 | 70 | 5,250
Subtotal |  |  |  | 8,583
2019
Cross-Sectional Samples
Representative Beneficiary Sample | 4,000 | 1 | 50 | 3,333
Successful Workers | 4,500 | 1 | 70 | 5,250
Longitudinal Samples
Successful Workers | 2,250 | 1 | 70 | 2,625
Subtotal |  |  |  | 9,458
Total Burden | 17,750 |  |  | 18,041

Dated: August 23, 2016.
Naomi R. Sipple,
Reports Clearance Officer, Social Security Administration.

[FR Doc. 2016-20559 Filed 8-26-16; 8:45 am]

BILLING CODE 4191-02-P